DEPARTMENT OF ENERGY

10 CFR Part 431

[Docket No. EERE-2010-BT-CE-0014]

RIN 1904-AC23

Energy Conservation Program: Compliance Certification for Electric Motors

AGENCY: Office of Energy Efficiency and Renewable Energy, Department of Energy.

ACTION: Final rule; technical amendment.

SUMMARY: This final rule provides a new means for manufacturers of electric motors and their private labelers to prepare and submit Compliance Certification information to the Department of Energy (DOE or the “Department”) through an electronic Web-based tool, the Compliance and Certification Management System (CCMS). The CCMS is the preferred mechanism for submitting Compliance Certification information for electric motors covered under the Energy Policy and Conservation Act (EPCA), as amended. This rule is also being issued to correct the sample Compliance Certification form currently located in Appendix C to Subpart B of 10 CFR Part 431 to be consistent with the Energy Independence and Security Act of 2007 (EISA 2007) energy conservation standards. Additionally, this rule updates the address and contact information used to submit Compliance Certification information through certified mail to DOE.

DATES: Effective date: September 23, 2011.

ADDRESSES: For access to the docket and to read background material, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room.

FOR FURTHER INFORMATION CONTACT: Ms. Ashley Armstrong, U.S. Department of Energy, Office of Energy Efficiency and Renewable Energy, Building Technologies Program, EE-2J, 1000 Independence Avenue, SW., Washington, DC 20585-0121. Telephone: 202-586-6590. E-mail: Ashley.Armstrong@ee.doe.gov; and Ms. Celia Sher, U.S. Department of Energy, Office of the General Counsel, Forrestal Building, GC-71, 1000 Independence Avenue, SW., Washington, DC 20585. Telephone: 202-287-6122. E-mail: Celia.Sher@hq.doe.gov.

SUPPLEMENTARY INFORMATION:

I. Background

EPCA establishes energy efficiency standards and test procedures for certain commercial and industrial equipment, including electric motors, 42 U.S.C. 6291 et seq., and states in relevant part that, “the Secretary [of Energy] shall require manufacturers to certify” that each electric motor meets the applicable energy efficiency standards. (42 U.S.C. 6316(c)) To achieve this end, EPCA authorizes the Secretary to issue the necessary rules requiring each manufacturer or private labeler of covered electric motors to submit information and reports to ensure compliance. (42 U.S.C. 6316(a)) This directive is carried out under Section 431.36 of Title 10 of the Code of Federal Regulations (CFR), which requires that each manufacturer or private labeler, before distributing in commerce any basic model of an electric motor subject to the applicable energy conservation standard, certify by means of a Compliance Certification that each basic model(s) meets the applicable energy conservation standard.

Section 313(b)(1)(B) of EISA 2007 amended EPCA to require each National Electrical Manufacturers Association (NEMA) Design B, general purpose electric motor with a power rating of more than 200 horsepower, but not greater than 500 horsepower, manufactured (alone or as a component of another piece of equipment) after December 19, 2010, to have a nominal full load efficiency that is not less than the values in NEMA Standard MG-1 (2006) Table 12-11. (42 U.S.C. 6313(b)(2)(D)) DOE codified this requirement at 10 CFR 431.25(f). 74 FR 12058 (March 23, 2009). Appendix C to Subpart B of 10 CFR Part 431 provides a format for a manufacturer or private labeler to report the energy efficiency of its basic models of electric motors according to rated horsepower or kilowatts, number of poles, and open or enclosed construction.

II. Discussion

A. Submission of Compliance Certification Information

DOE establishes that Compliance Certification information for electric motors may be submitted to DOE through either of the following means: 1. Compliance and Certification Management System (CCMS)—via the Web portal: https://www.regulations.doe.gov/ccms. Follow the instructions on the CCMS Web site for submitting compliance statements and certification reports. The CCMS is a tool for certification of compliance with applicable energy conservation standards. Submission of Compliance Certification information via the CCMS is strongly encouraged and will satisfy DOE's compliance and certification reporting requirements for electric motors. 2. Certified Mail—send to: Certification and Compliance Reports, U.S. Department of Energy, Office of Energy Efficiency and Renewable Energy, Building Technologies Program, EE-2J, Forrestal Building, 1000 Independence Avenue, SW., Washington, DC 20585-0121.

Initially, the CCMS database will be used only as an alternative method for the submission of Compliance Certification information for electric motors, in addition to the current certified mail option. In a future rulemaking, DOE anticipates proposing to remove the certified mail option to make electronic submissions of Compliance Certification information through the CCMS the sole method of submission for electric motors. Such a requirement would be consistent with DOE's March 7, 2011 final rule titled “Certification, Compliance and Enforcement for Consumer Products and Commercial and Industrial Equipment.” 76 FR 12422. In that final rule, DOE noted its intent, where possible, to harmonize the certification provisions for electric motors with the requirements for covered products and equipment under Part 429 of the CFR, which includes mandatory electronic submission. 76 FR 12447.

B. Sample Compliance Certification Form

In order to provide clarity to manufacturers, DOE is correcting the sample Compliance Certification form currently located in Appendix C to Subpart B of 10 CFR part 431 to be consistent with the EISA 2007 energy conservation standards. DOE's regulations, under 10 CFR 431.36(b), require manufacturers of electric motors to use the format in Appendix C to subpart B of 10 CFR part 431 for submitting Compliance Certification reports. As published, this Compliance Certification form does not allow manufacturers to identify the correct motor subtype and product class information that would allow DOE to determine whether a basic model is in compliance with the EISA 2007 standards. Consequently, today's final rule conforms the sample Compliance Certification form and table with the efficiency levels resulting from EISA 2007 by replacing the table with a revised table showing the additional subtypes and product classes of electric motors subject to the EISA 2007 standards.

III. Procedural Requirements

A. Executive Order 12866

Today's regulatory action is not a “significant regulatory action” under section 3(f) of Executive Order 12866, “Regulatory Planning and Review,” 58 FR 51735 (October 4, 1993). Accordingly, this action was not subject to review under that Executive Order by the Office of Information and Regulatory Affairs (OIRA) of the Office of Management and Budget (OMB).

B. Administrative Procedure Act

The Department finds good cause to waive notice and comment on these regulations pursuant to 5 U.S.C. 553(b)(3)(B), and the 30-day delay in effective date pursuant to 5 U.S.C. 553(d). Notice and comment are unnecessary and contrary to the public interest because this final rule does not require any new actions on the part of manufacturers, private labelers, or third-party representatives; rather it simply allows an alternative option for submission of information which is already required, and is otherwise technical in nature. A delay in effective date is unnecessary and contrary to the public interest for these same reasons. Therefore, these regulations are being published as final regulations and are effective immediately.

C. National Environmental Policy Act

DOE has determined that this rule falls into a class of actions that are categorically excluded from further review under the National Environmental Policy Act of 1969 (42 U.S.C. 4321 et seq.) and DOE's implementing regulations at 10 CFR part 1021. This rule amends an existing rule without changing its environmental effect, and, therefore, is covered by the Categorical Exclusion A5 found in appendix A to subpart D, 10 CFR part 1021. Accordingly, neither an environmental assessment nor an environmental impact statement is required.

D. Regulatory Flexibility Act

The Regulatory Flexibility Act (5 U.S.C. 601 et seq.) requires preparation of an initial regulatory flexibility analysis for any rule that must be proposed for public comment, unless the agency certifies that the rule will have no significant economic impact on a substantial number of small entities. As required by Executive Order 13272, “Proper Consideration of Small Entities in Agency Rulemaking,” 67 FR 53461 (August 16, 2002), DOE published procedures and policies on February 19, 2003, to ensure that the potential impacts of its rules on small entities are properly considered during the rulemaking process. 68 FR 7990. DOE has made its procedures and policies available on the Office of the General Counsel's Web site at http://www.gc.doe.gov. Because a notice of proposed rulemaking is not required under the Administrative Procedure Act or other applicable law, the Regulatory Flexibility Act does not require certification or the conduct of a regulatory flexibility analysis for this rule.

E. Paperwork Reduction Act

Manufacturers of electric motors must certify to DOE that their products comply with any applicable energy conservation standards. In certifying compliance, manufacturers must test their products according to the DOE test procedures for electric motors, including any amendments adopted for those test procedures. DOE has established regulations for the certification and recordkeeping requirements for electric motors. 10 CFR 431.36. The collection-of-information requirement for the certification and recordkeeping is subject to review and approval by OMB under the Paperwork Reduction Act (PRA). This requirement has been approved by OMB under OMB control number 1910-1400. Public reporting burden for the certification is estimated to average 20 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

F. Unfunded Mandates Reform Act of 1995

Title II of the Unfunded Mandates Reform Act of 1995 (UMRA) (Pub. L. 104-4) requires each Federal agency to assess the effects of Federal regulatory actions on State, local, and Tribal governments and the private sector. For proposed regulatory actions likely to result in a rule that may cause expenditures by State, local, and Tribal governments, in the aggregate, or by the private sector, of $100 million or more (adjusted annually for inflation), section 202 of UMRA requires a Federal agency to publish estimates of the resulting costs, benefits, and other effects on the national economy. (2 U.S.C. 1532(a), (b)) The UMRA also requires a Federal agency to develop an effective process to permit timely input by elected officers of State, local, and Tribal governments on a proposed “significant intergovernmental mandate.” UMRA also requires an agency plan for giving notice and opportunity for timely input to small governments that may be affected before establishing a requirement that might significantly or uniquely affect them. On March 18, 1997, DOE published a statement of policy on its process for intergovernmental consultation under UMRA (62 FR 12820) (also available at http://www.gc.doe.gov). Today's final rule contains neither an intergovernmental mandate nor a mandate that may result in the expenditure of $100 million or more in any year, so these requirements do not apply.

G. Treasury and General Government Appropriations Act, 1999

Section 654 of the Treasury and General Government Appropriations Act, 1999 (Pub. L. 105-277) requires Federal agencies to issue a Family Policymaking Assessment for any rule that may affect family well-being. Today's rule would have no impact on the autonomy or integrity of the family as an institution. Accordingly, DOE has concluded that it is unnecessary to prepare a Family Policymaking Assessment.

H. Executive Order 13132

Executive Order 13132, “Federalism,” 64 FR 43255 (August 4, 1999) imposes certain requirements on agencies formulating and implementing policies or regulations that preempt State law or that have Federalism implications. The executive order requires agencies to examine the constitutional and statutory authority supporting any action that would limit the policymaking discretion of the States and to carefully assess the necessity for such actions. DOE has examined this final rule and determined that it would not preempt State law and would have no substantial direct effect on the States, on the relationship between the national government and the States, or on the distribution of power and responsibilities among the various levels of government. Executive Order 13132 requires no further action.

I. Executive Order 12988

With respect to the review of existing regulations and the promulgation of new regulations, section 3(a) of Executive Order 12988, “Civil Justice Reform,” 61 FR 4729 (February 7, 1996), imposes on Federal agencies the general duty to adhere to the following requirements: (1) Eliminate drafting errors and ambiguity, (2) write regulations to minimize litigation, (3) provide a clear legal standard for affected conduct rather than a general standard, and (4) promote simplification and burden reduction. Regarding the review required by section 3(a), section 3(b) of Executive Order 12988 specifically requires that Executive agencies make every reasonable effort to ensure that the regulation (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, this rule meets the relevant standards of Executive Order 12988.

J. Treasury and General Government Appropriations Act, 2001

The Treasury and General Government Appropriations Act, 2001 (44 U.S.C. 3516 note) provides for agencies to review most disseminations of information to the public under guidelines established by each agency pursuant to general guidelines issued by OMB. OMB's guidelines were published at 67 FR 8452 (February 22, 2002), and DOE's guidelines were published at 67 FR 62446 (October 7, 2002). DOE has reviewed today's rulemaking under the OMB and DOE guidelines and has concluded that it is consistent with applicable policies in those guidelines.

K. Executive Order 13211

Executive Order 13211, “Actions Concerning Regulations That Significantly Affect Energy Supply, Distribution, or Use,” 66 FR 28355 (May 22, 2001), requires Federal agencies to prepare and submit to OMB a Statement of Energy Effects for any proposed significant energy action. A “significant energy action” is defined as any action by an agency that promulgated or is expected to lead to promulgation of a final rule, and that (1) is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use. Today's regulatory action is not a significant regulatory action under Executive Order 12866 or any successor order; would not have a significant adverse effect on the supply, distribution, or use of energy; and has not been designated by the Administrator of OIRA as a significant energy action. Accordingly, DOE has not prepared a Statement of Energy Effects.

L. Executive Order 12630

Pursuant to Executive Order 12630, “Governmental Actions and Interference with Constitutionally Protected Property Rights,” 53 FR 8859 (March 15, 1988), DOE has determined that this rule would not result in any takings that might require compensation under the Fifth Amendment to the U.S. Constitution.

M. Section 32 of the Federal Energy Administration Act of 1974

Under section 301 of the Department of Energy Organization Act (Pub. L. 95-91), the Department of Energy must comply with section 32 of the Federal Energy Administration Act of 1974 (Pub. L. 93-275), as amended by the Federal Energy Administration Authorization Act of 1977 (Pub. L. 95-70). (15 U.S.C. 788) Section 32 provides that where a proposed rule authorizes or requires use of commercial standards, the notice of proposed rulemaking must inform the public of the use and background of such standards. In addition, section 32(c) requires DOE to consult with the Department of Justice (DOJ) and the Federal Trade Commission (FTC) concerning the impact of the commercial or industry standards on competition. This final rule to provide for use of the CCMS system for the submission of Compliance Certification information and correct the sample Compliance Certification form does not require the use of any commercial standards. Therefore, no consultation with either DOJ or FTC is required.

N. Congressional Notification

As required by 5 U.S.C. 801, DOE will report to Congress on the promulgation of today's rule before its effective date. The report will state that it has been determined that the rule is not a “major rule” as defined by 5 U.S.C. 804(2).

IV. Approval of the Office of the Secretary

The Secretary of Energy has approved publication of this final rule.

List of Subjects in 10 CFR Part 431

Administrative practice and procedure, Confidential business information, Energy conservation, Household appliances, and Reporting and recordkeeping requirements.

Issued in Washington, DC, on September 12, 2011.
Kathleen Hogan,
Deputy Assistant Secretary for Energy Efficiency, Office of Technology Development, Energy Efficiency and Renewable Energy.

For the reasons set forth in the preamble, chapter II of title 10, Code of Federal Regulations, part 431 is amended to read as set forth below.

PART 431—ENERGY EFFICIENCY PROGRAM FOR CERTAIN COMMERCIAL AND INDUSTRIAL EQUIPMENT

1. The authority citation for part 431 continues to read as follows:

Authority: U.S.C. 6291-6317.

2. Section 431.36 is amended by revising paragraph (d) to read as follows:

§ 431.36 Compliance Certification.

* * * * *

(d) Signature and submission. A manufacturer or private labeler must submit the Compliance Certification either on its own behalf, signed by a corporate official of the company, or through a third party (for example, a trade association or other authorized representative) acting on its behalf. Where a third party is used, the Compliance Certification must identify the official of the manufacturer or private labeler who authorized the third party to make representations on the company's behalf, and must be signed by a corporate official of the third party. The Compliance Certification must be submitted to the Department electronically at https://www.regulations.doe.gov/ccms. Alternatively, the Compliance Certification may be submitted by certified mail to: Certification and Compliance Reports, U.S. Department of Energy, Office of Energy Efficiency and Renewable Energy, Building Technologies Program, EE-2J, Forrestal Building, 1000 Independence Avenue, SW., Washington, DC 20585-0121.

* * * * *

3. Appendix C to subpart B of part 431 is revised to read as follows:

APPENDIX C TO SUBPART B OF PART 431—COMPLIANCE CERTIFICATION

Certification of Compliance With Energy Efficiency Standards for Electric Motors (Office of Management and Budget Control Number: 1910-1400. Expires February 13, 2014)

An electronic form is available at https://www.regulations.doe.gov/ccms/.

1. Name and Address of Company (the “company”):

2. Name(s) to be Marked on Electric Motors to Which this Compliance Certification Applies:

3. If manufacturer or private labeler wishes to receive a unique Compliance Certification number for use with any particular brand name, trademark, or other label name, fill out the following two items:

A. List each brand name, trademark, or other label name for which the company requests a Compliance Certification number:

B. List other name(s), if any, under which the company sells electric motors (if not listed in item 2 above):

Submit electronically at https://www.regulations.doe.gov/ccms.

Submit paper form by Certified Mail to: U.S. Department of Energy, Office of Energy Efficiency and Renewable Energy, Building Technologies (EE-2J), Forrestal Building, 1000 Independence Avenue, SW., Washington, DC 20585-0121.

This Compliance Certification reports on and certifies compliance with requirements contained in 10 CFR Part 431 (Energy Conservation Program for Certain Commercial and Industrial Equipment) and Part C of the Energy Policy and Conservation Act (Pub. L. 94-163), and amendments thereto. It is signed by a responsible official of the above named company. Attached and incorporated as part of this Compliance Certification is a Listing of Electric Motor Efficiencies. For each rating of electric motor* for which the Listing specifies the nominal full load efficiency of a basic model, the company distributes no less efficient basic model with that rating and all basic models with that rating comply with the applicable energy efficiency standard.

* For this purpose, the term “rating” means one of the combinations of an electric motor's horsepower (or standard kilowatt equivalent), number of poles, motor type, and open or enclosed construction, with respect to which § 431.25 of 10 CFR Part 431 prescribes nominal full load efficiency standards.

Person to Contact for Further Information:

Name:

Address:

Telephone Number:

Facsimile Number:

If any part of this Compliance Certification, including the Attachment, was prepared by a third party organization under the provisions of 10 CFR 431.36, the company official authorizing third party representations:

Name:

Address:

Telephone Number:

Facsimile Number:

Third Party Organization Officially Acting as Representative:

Third Party Organization:

Responsible Person at the Organization:

Address:

Telephone Number:

Facsimile Number:

All required determinations on which this Compliance Certification is based were made in conformance with the applicable requirements in 10 CFR Part 431, subpart B. All information reported in this Compliance Certification is true, accurate, and complete. The company is aware of the penalties associated with violations of the Act and the regulations thereunder, and is also aware of the provisions contained in 18 U.S.C. 1001, which prohibits knowingly making false statements to the Federal Government.

Signature:

Date:

Name:

Title:

Firm or Organization:

Attachment of Certification of Compliance With Energy Efficiency Standards for Electric Motor Efficiencies

Date:

Name of Company:

Motor Type (i.e., general purpose electric motor (subtype I), fire pump electric motor, general purpose electric motor (subtype II), NEMA Design B general purpose electric motor)

Motor horsepower/standard kilowatt equivalent | Least efficient basic model—(model numbers(s)) Nominal full-load efficiency: Open motors (number of poles): 8 | Least efficient basic model—(model numbers(s)) Nominal full-load efficiency: Open motors (number of poles): 6 | Least efficient basic model—(model numbers(s)) Nominal full-load efficiency: Open motors (number of poles): 4 | Least efficient basic model—(model numbers(s)) Nominal full-load efficiency: Open motors (number of poles): 2 | Least efficient basic model—(model numbers(s)) Nominal full-load efficiency: Enclosed motors (number of poles): 8 | Least efficient basic model—(model numbers(s)) Nominal full-load efficiency: Enclosed motors (number of poles): 6 | Least efficient basic model—(model numbers(s)) Nominal full-load efficiency: Enclosed motors (number of poles): 4 | Least efficient basic model—(model numbers(s)) Nominal full-load efficiency: Enclosed motors (number of poles): 2
1/.75 | ___ | ___ | ___ | ___ | ___ | ___ | ___ | ___
| ___ | ___ | ___ | ___ | ___ | ___ | ___ | ___
1.5/1.1 | ___ | ___ | ___ | ___ | ___ | ___ | ___ | ___
| ___ | ___ | ___ | ___ | ___ | ___ | ___ | ___
2/1.5 | ___ | ___ | ___ | ___ | ___ | ___ | ___ | ___
| ___ | ___ | ___ | ___ | ___ | ___ | ___ | ___
3/2.2 | ___ | ___ | ___ | ___ | ___ | ___ | ___ | ___
| ___ | ___ | ___ | ___ | ___ | ___ | ___ | ___
5/3.7 | ___ | ___ | ___ | ___ | ___ | ___ | ___ | ___
| ___ | ___ | ___ | ___ | ___ | ___ | ___ | ___
| ___ | ___ | ___ | ___ | ___ | ___ | ___ | ___
| ___ | ___ | ___ | ___ | ___ | ___ | ___ | ___
Etc | ___ | ___ | ___ | ___ | ___ | ___ | ___ | ___
| ___ | ___ | ___ | ___ | ___ | ___ | ___ | ___
Note: Place an asterisk beside each reported nominal full load efficiency that is determined by actual testing rather than by application of an alternative efficiency determination method. Also list below additional basic models that were subjected to actual testing.

Basic Model means all units of a given type of electric motor (or class thereof) manufactured by a single manufacturer, and which (i) have the same rating, (ii) have electrical design characteristics that are essentially identical, and (iii) do not have any differing physical or functional characteristics that affect energy consumption or efficiency.

Rating means one of the combinations of an electric motor's horsepower (or standard kilowatt equivalent), number of poles, motor type, and open or enclosed construction, with respect to which § 431.25 of 10 CFR Part 431 prescribes nominal full load efficiency standards.

Models Actually Tested and Not Previously Identified
Motor horsepower/standard kilowatt equivalent | Least efficient basic model—(model numbers(s)) Nominal full-load efficiency: Open motors (number of poles): 8 | Least efficient basic model—(model numbers(s)) Nominal full-load efficiency: Open motors (number of poles): 6 | Least efficient basic model—(model numbers(s)) Nominal full-load efficiency: Open motors (number of poles): 4 | Least efficient basic model—(model numbers(s)) Nominal full-load efficiency: Open motors (number of poles): 2 | Least efficient basic model—(model numbers(s)) Nominal full-load efficiency: Enclosed motors (number of poles): 8 | Least efficient basic model—(model numbers(s)) Nominal full-load efficiency: Enclosed motors (number of poles): 6 | Least efficient basic model—(model numbers(s)) Nominal full-load efficiency: Enclosed motors (number of poles): 4 | Least efficient basic model—(model numbers(s)) Nominal full-load efficiency: Enclosed motors (number of poles): 2
___ | ___ | ___ | ___ | ___ | ___ | ___ | ___ | ___
| ___ | ___ | ___ | ___ | ___ | ___ | ___ | ___
___ | ___ | ___ | ___ | ___ | ___ | ___ | ___ | ___
| ___ | ___ | ___ | ___ | ___ | ___ | ___ | ___
___ | ___ | ___ | ___ | ___ | ___ | ___ | ___ | ___
| ___ | ___ | ___ | ___ | ___ | ___ | ___ | ___
___ | ___ | ___ | ___ | ___ | ___ | ___ | ___ | ___
| ___ | ___ | ___ | ___ | ___ | ___ | ___ | ___
___ | ___ | ___ | ___ | ___ | ___ | ___ | ___ | ___
| ___ | ___ | ___ | ___ | ___ | ___ | ___ | ___
___ | ___ | ___ | ___ | ___ | ___ | ___ | ___ | ___
| ___ | ___ | ___ | ___ | ___ | ___ | ___ | ___
Etc | ___ | ___ | ___ | ___ | ___ | ___ | ___ | ___
| ___ | ___ | ___ | ___ | ___ | ___ | ___ | ___

[FR Doc. 2011-24500 Filed 9-22-11; 8:45 am]

BILLING CODE 6450-01-P